DEPARTMENT OF JUSTICE

Drug Enforcement Administration

[Docket No. DEA-687]

Bulk Manufacturer of Controlled Substances Application: Siegfried USA, LLC

ACTION: Notice of application.

DATES: Registered bulk manufacturers of the affected basic class(es), and applicants therefore, may file written comments on or objections to the issuance of the proposed registration on or before September 28, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on May 21, 2020, Siegfried USA, LLC, 33 Industrial Park Road, Pennsville, New Jersey 08070-3244, applied to be registered as a bulk manufacturer of the following basic class(es) of controlled substances:

Controlled substance | Drug code | Schedule
Amphetamine | 1100 | II
Tapentadol | 9780 | II

The company plans to manufacture the above-listed controlled substances in bulk for sale to its customers.

William T. McDermott,
Assistant Administrator.

[FR Doc. 2020-16397 Filed 7-28-20; 8:45 am]

BILLING CODE 4410-09-P